FEDERAL COMMUNICATIONS COMMISSION

47 CFR Part 73

[DA 00-1445; MM Docket No. 99-116 ; RM-9536]

Radio Broadcasting Services; Angel Fire, Chama, Taos, New Mexico

AGENCY: Federal Communications Commission.

ACTION: Final rule.

SUMMARY: The Commission, at the request of Alpine Broadcasting Limited Partnership, permittee of Station KLAB(FM), Taos, New Mexico, and licensee of KKIT(FM), Angel Fire, New Mexico substitutes Channel 256C for 260C at Taos and Channel 260C2 for 256C2 at Angel Fire, and Channel 240A for 255A at Chama to accommodate the other substitutions. See 64 FR 23036 (April 29, 1999). Channel 256C can be allotted to Taos in compliance with the Commission's minimum distance separation requirements, with respect to domestic allotments, at petitioner's specified site 60.3 kilometers (37.4 miles), at coordinates 36-47-33 and 106-02-49. Channel 260C2 can be allotted to Angel Fire at Station KKIT(FM)'s licensed site at coordinates 36-22-33 and 105-14-12. Channel 240A can be allotted to Chama at Station KFLH(FM)'s specified site at coordinates 36-54-11 and 106-34-35. With this action, this proceeding is terminated.

DATES: Effective August 14, 2000.

FOR FURTHER INFORMATION CONTACT: Victoria M. McCauley, Mass Media Bureau, (202) 418-2180.

SUPPLEMENTARY INFORMATION: This is a synopsis of the Commission's Report and Order, MM Docket No. 99-116, adopted June 21, 2000, and released June 30, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

This item also corrects the typographical error in 47 CFR 73.202 which incorrectly listed Channel 260 at Taos, NM without a class designation from 1992 to current. 56 FR 16013 (April 1991.) That listing is hereby corrected to read Channel 260C and is further amended in this item to Channel 256C at Taos.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

2. Section 73.202(b) the FM Table of Allotments under New Mexico is amended by removing Channel 260 at Taos and adding Channel 256C at Taos, removing Channel 256C2 at Angel Fire and adding Channel 260C2 at Angel Fire, and by removing Channel 255A at Chama, and adding Channel 240A at Chama.

Federal Communications Commission.
John A. Karousos,
Chief, Allocations Branch, Policy and Rules Division, Mass Media Bureau.

[FR Doc. 00-20101 Filed 8-8-00; 8:45 am]

BILLING CODE 6712-01-U